DEPARTMENT OF TRANSPORTATION

Federal Aviation Administration

14 CFR Part 95

[Docket No. 30985; Amdt. No. 516]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective Date: 0901 UTC, November 13, 2014.

FOR FURTHER INFORMATION CONTACT: Harry Hodges, Flight Procedure Standards Branch (AMCAFS-420), Flight Technologies and Programs Division, Flight Standards Service, Federal Aviation Administration, Mike Monroney Aeronautical Center, 6500 South MacArthur Blvd. Oklahoma City, OK 73169 (Mail Address: P.O. Box 25082 Oklahoma City, OK. 73125) telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC, on October 9, 2014.
John Duncan,
Director, Flight Standards Service.

Adoption of the Amendment

Accordingly, pursuant to the authority delegated to me by the Administrator, part 95 of the Federal Aviation Regulations (14 CFR part 95) is amended as follows effective at 0901 UTC, November 13, 2014.

1. The authority citation for part 95 continues to read as follows:

Authority: 49 U.S.C. 106(g), 40103, 40106, 40113, 40114, 40120, 44502, 44514, 44719, 44721.

2. Part 95 is amended to read as follows:

PART 95—[AMENDED]

Revisions to IFR Altitudes & Changeover Point Amendment 516
[Effective date November 13, 2014]
From | To | MEA | MAA
§ 95.3000 Low Altitude RNAV Routes
§ 95.3295 RNAV Route T295 is Amended to Delete
BANGOR, ME VORTAC | PRINCETON, ME VOR/DME | 3100 | 17500
§ 95.3325 RNAV Route T325 is Added to Read
BOWLING GREEN, KY VORTAC | RENRO, KY FIX | *4500 | 17500
*2400—MOCA
RENRO, KY FIX | LOONE, KY FIX | *4500 | 17500
*2100—MOCA
LOONE, KY FIX | APALO, IN FIX | *4500 | 17500
*2100—MOCA
APALO, IN FIX | BUNKA, IN FIX | 2500 | 17500
BUNKA, IN FIX | TERRE HAUTE, IN VORTAC | 2400 | 17500
§ 95.3608 RNAV Route T608 is Added to Read
WOZEE, NY WP | U.S. CANADIAN BORDER | *3000 | 17500
*2400—MOCA
U.S. CANADIAN BORDER | U.S. CANADIAN BORDER | *3000 | 17500
*2400—MOCA
U.S. CANADIAN BORDER | HOCKE, MI WP | #*3500 | 17500
*2900—MOCA
#FOR THAT AIRSPACE OVER U.S. TERRITORY
§ 95.3616 RNAV Route T616 is Added to Read
FLINT, MI VORTAC | URSSA, MI WP | 2500 | 17500
URSSA, MI WP | HOCKE, MI WP | 2800 | 17500
HOCKE, MI WP | U.S. CANADIAN BORDER | *6000 | 17500
*2100—MOCA
§ 95.3781 RNAV Route T781 is Added to Read
FLINT, MI VORTAC | KATTY, MI FIX | *3000 | 17500
*2200—MOCA
KATTY, MI FIX | HANKY, MI FIX | *4000 | 17500
*2900—MOCA
ADRIE, MI FIX | MARGN, MI FIX | *4000 | 17500
*2800—MOCA
MARGN, MI FIX | BLUEZ, MI FIX | *4000 | 17500
*2800—MOCA
BLUEZ, MI FIX | U.S. CANADIAN BORDER | *4000 | 17500
*2800—MOCA
§ 95.4000 High Altitude RNAV Routes
§ 95.4029 RNAV Route Q29 is Amended by Adding
SIDAE, KY WP | CREEP, OH FIX | *18000 | 45000
*18000—GNSS MEA
*DME/DME/IRU MEA
CREEP, OH FIX | KLYNE, OH WP | *18000 | 45000
*18000—GNSS MEA
*DME/DME/IRU MEA
KLYNE, OH WP | DUTSH, OH WP | *18000 | 45000
*18000—GNSS MEA
*DME/DME/IRU MEA
DUTSH, OH WP | WWSHR, OH WP | *18000 | 45000
*18000—GNSS MEA
*DME/DME/IRU MEA
WWSHR, OH WP | DORET, OH FIX | *18000 | 45000
*18000—GNSS MEA
*DME/DME/IRU MEA
DORET, OH FIX | JAMESTOWN, NY VOR/DME | *18000 | 45000
*18000—GNSS MEA
*DME/DME/IRU MEA
JAMESTOWN, NY VOR/DME | HANKK, NY FIX | *18000 | 45000
*18000—GNSS MEA
*DME/DME/IRU MEA
HANKK, NY FIX | GONZZ, NY WP | *18000 | 45000
*18000—GNSS MEA
*DME/DME/IRU MEA
GONZZ, NY WP | KRAZZ, NY WP | *18000 | 45000
*18000—GNSS MEA
*DME/DME/IRU MEA
KRAZZ, NY WP | NIPPY, NY FIX | *18000 | 45000
*18000—GNSS MEA
*DME/DME/IRU MEA
NIPPY, NY FIX | CABCI, VT WP | *18000 | 45000
*18000—GNSS MEA
*DME/DME/IRU MEA
CABCI, VT WP | EBONY, ME FIX | *18000 | 45000
*18000—GNSS MEA
*DME/DME/IRU MEA
EBONY, ME FIX | DUNOM, ME WP | *18000 | 45000
*18000—GNSS MEA
*DME/DME/IRU MEA
§ 95.4029 RNAV Route Q29
DUNOM, ME WP | U.S. CANADIAN BORDER | *18000 | 45000
*18000—GNSS MEA
*DME/DME/IRU MEA
Is Amended to Read in Part
HARES, LA WP | BAKRE, MS WP | *20000 | 45000
*18000—GNSS MEA
*DME/DME/IRU MEA
BAKRE, MS WP | MEMPHIS, TN VORTAC | *20000 | 45000
*18000—GNSS MEA
*DME/DME/IRU MEA
MEMPHIS, TN VORTAC | OMDUE, TN WP | *20000 | 45000
*18000—GNSS MEA
*DME/DME/IRU MEA
OMDUE, TN WP | SIDAE, KY WP | *20000 | 45000
*18000—GNSS MEA
*DME/DME/IRU MEA
§ 95.4039 RNAV Route Q39 is Amended to Read in Part
CLAWD, NC WP | WISTA, WV WP | *18000 | 45000
*18000—GNSS MEA
*DME/DME/IRU MEA
§ 95.4067 RNAV Route Q67 is Amended by Adding
TONIO, KY FIX | JONEN, KY WP | *18000 | 45000
*18000—GNSS MEA
*DME/DME/IRU MEA
JONEN, KY WP | COLTZ, OH FIX | *18000 | 45000
*18000—GNSS MEA
*DME/DME/IRU MEA
§ 95.4069 RNAV Route Q69 is Amended by Adding
EWESS, WV WP | RICCS, WV FIX | *18000 | 45000
*18000—GNSS MEA
*DME/DME/IRU MEA
§ 95.4071 RNAV Route Q71 is Amended by Adding
GEFFS, WV FIX | EMNEM, WV WP | *18000 | 45000
*18000—GNSS MEA
*DME/DME/IRU MEA
EMNEM, WV WP | PSYKO, PA WP | *18000 | 45000
*18000—GNSS MEA
*DME/DME/IRU MEA
PSYKO, PA WP | PHILIPSBURG, PA VORTAC | *18000 | 45000
*18000—GNSS MEA
*DME/DME/IRU MEA
§ 95.4082 RNAV Route Q82 is Added to Read
WWSHR, OH WP | DORET, OH FIX | *18000 | 45000
*18000—GNSS MEA
*DME/DME/IRU MEA
DORET, OH FIX | JAMESTOWN, NY VOR/DME | *18000 | 45000
*18000—GNSS MEA
*DME/DME/IRU MEA
JAMESTOWN, NY VOR/DME | WAYLA, NY WP | *18000 | 45000
*18000—GNSS MEA
*DME/DME/IRU MEA
WAYLA, NY WP | VIEEW, NY FIX | *18000 | 45000
*18000—GNSS MEA
*DME/DME/IRU MEA
JHW, PSB,SLT,SYR
VIEEW, NY FIX | MEMMS, NY FIX | *18000 | 45000
*18000—GNSS MEA
*DME/DME/IRU MEA
MEMMS, NY FIX | LOXXE, NY FIX | *18000 | 45000
*18000—GNSS MEA
*DME/DME/IRU MEA
LOXXE, NY FIX | PONCT, NY WP | *18000 | 45000
*18000—GNSS MEA
*DME/DME/IRU MEA
§ 95.4084 RNAV Route Q84 is Added to Read
JAMESTOWN, NY VOR/DME | AUDIL, NY FIX | *18000 | 45000
*18000—GNSS MEA
*DME/DME/IRU MEA
AUDIL, NY FIX | PUPPY, NY WP | *18000 | 45000
*18000—GNSS MEA
*DME/DME/IRU MEA
PUPPY, NY WP | PAYGE, NY FIX | *18000 | 45000
*18000—GNSS MEA
*DME/DME/IRU MEA
PAYGE, NY FIX | CAMBRIDGE, NY VOR/DME | *18000 | 45000
*18000—GNSS MEA
*DME/DME/IRU MEA
§ 95.4103 RNAV Route Q103 is Added to Read
PULASKI, VA VORTAC | ASBUR, WV FIX | *18000 | 45000
*18000—GNSS MEA
*DME/DME/IRU MEA
ASBUR, WV FIX | OAKLE, WV FIX | *18000 | 45000
*18000—GNSS MEA
*DME/DME/IRU MEA
OAKLE, WV FIX | PERRI, WV FIX | *18000 | 45000
*18000—GNSS MEA
*DME/DME/IRU MEA
PERRI, WV FIX | PERKS, WV FIX | *18000 | 45000
*18000—GNSS MEA
*DME/DME/IRU MEA
PERKS, WV FIX | RICCS, WV FIX | *18000 | 45000
*18000—GNSS MEA
*DME/DME/IRU MEA
RICCS, WV FIX | EMNEM, WV WP | *18000 | 45000
*18000—GNSS MEA
*DME/DME/IRU MEA
EMNEM, WV WP | AIRRA, PA WP | #*18000 | 45000
*18000—GNSS MEA
*DME/DME/IRU MEA
§ 95.4120 RNAV Route Q120 is Amended by Adding
ORRCA, CA WP | BETBE, NV WP | *24000 | 45000
*18000—GNSS MEA
*DME/DME/IRU MEA
BETBE, NV WP | ZORUN, NV WP | *24000 | 45000
*18000—GNSS MEA
*DME/DME/IRU MEA
ZORUN, NV WP | GALLI, NV WP | *31000 | 45000
*18000—GNSS MEA
*DME/DME/IRU MEA
GALLI, NV WP | JAJAY, NV WP | *31000 | 45000
*18000—GNSS MEA
*DME/DME/IRU MEA
JAJAY, NV WP | TRAKY, NV WP | *31000 | 45000
*18000—GNSS MEA
*DME/DME/IRU MEA
TRAKY, NV WP | PROXI, UT WP | *29000 | 45000
*18000—GNSS MEA
*DME/DME/IRU MEA
PROXI, UT WP | BIG PINEY, WY VOR/DME | *25000 | 45000
*18000—GNSS MEA
*DME/DME/IRU MEA
BIG PINEY, WY VOR/DME | JUGIV, WY WP | *23000 | 45000
*18000—GNSS MEA
*DME/DME/IRU MEA
HIKOX, WY FIX | JASTI, SD WP | *23000 | 45000
*18000—GNSS MEA
*DME/DME/IRU MEA
JASTI, SD WP | UFFDA, MN WP | *19000 | 45000
*18000—GNSS MEA
*DME/DME/IRU MEA
Is Amended to Read in Part
GALLI, NV WP | JAJAY, NV WP | *23000 | 45000
*18000—GNSS MEA
*DME/DME/IRU MEA
JUGIV, WY WP | HIKOX, WY FIX | *23000 | 45000
*18000—GNSS MEA
*DME/DME/IRU MEA
§ 95.4128 RNAV Route Q128 is Amended by Adding
SYRAH, CA WP | JSICA, NV WP | *27000 | 45000
*18000—GNSS MEA
*DME/DME/IRU MEA
VEGUC, OK WP | VLUST, AR WP | *18000 | 45000
*1800—GNSS MEA
*DME/DME/IRU MEA
VLUST, AR WP | ECIGE, AR WP | *18000 | 45000
*18000—GNSS MEA
*DME/DME/IRU MEA
ECIGE, AR WP | MUDHO, MS WP | *18000 | 45000
*18000—GNSS MEA
*DME/DME/IRU MEA
MUDHO, MS WP | JILLS, AL WP | *18000 | 45000
*18000—GNSS MEA
*DME/DME/IRU MEA
Is Amended to Read in Part
JSICA, NV WP | TABLL, UT WP | *25000 | 45000
*18000—GNSS MEA
*DME/DME/IRU MEA
TABLL, UT WP | EDLES, UT FIX | *25000 | 45000
*18000—GNSS MEA
*DME/DME/IRU MEA
EDLES, UT FIX | FLOOD, CO FIX | *24000 | 45000
*18000—GNSS MEA
*DME/DME/IRU MEA
FLOOD, CO FIX | ZAROS, CO WP | *22000 | 45000
*18000—GNSS MEA
*DME/DME/IRU MEA
ZAROS, CO WP | VEGUC, OK WP | *20000 | 45000
*18000—GNSS MEA
*DME/DME/IRU MEA
§ 95.4130 RNAV Route Q130 is Amended to Delete
LINDEN, CA VORTAC | JSICA, NV WP | *18000 | 45000
*18000—GNSS MEA
*DME/DME/IRU MEA
Is Amended by Adding
SYRAH, CA WP | JSICA, NV WP | *27000 | 45000
*18000—GNSS MEA
*DME/DME/IRU MEA
Is Amended to Read in Part
JSICA, NV WP | REANA, NV WP | *27000 | 45000
*18000—GNSS MEA
*DME/DME/IRU MEA
REANA, NV WP | ROCCY, UT WP | *27000 | 45000
*18000—GNSS MEA
*DME/DME/IRU MEA
ROCCY, UT WP | HASSL, UT WP | *27000 | 45000
*18000—GNSS MEA
*DME/DME/IRU MEA
HASSL, UT WP | TAHIB, CO WP | *22000 | 45000
*18000—GNSS MEA
*DME/DME/IRU MEA
TAHIB, CO WP | DIXAN, NM FIX | *22000 | 45000
*18000—GNSS MEA
*DME/DME/IRU MEA
§ 95.4138 RNAV Route Q138 is Amended by Adding
DKOTA, SD WP | WELOK, MN WP | *20000 | 45000
*18000—GNSS MEA
*DME/DME/IRU MEA
GEP, FSD, RWF
WELOK, MN WP | CESNA, WI WP | *20000 | 45000
*18000—GNSS MEA
*DME/DME/IRU MEA
GEP, ODI, RWF
CESNA, WI WP | GUUME, WI WP | *20000 | 45000
*18000—GNSS MEA
*DME/DME/IRU MEA
GUUME, WI WP | SNARG, WI WP | *20000 | 45000
*18000—GNSS MEA
*DME/DME/IRU MEA
SNARG, WI WP | SAULT STE MARIE, MI VOR/DME | *20000 | 45000
*18000—GNSS MEA
*DME/DME/IRU MEA
Is Amended to Read in Part
MOTLY, SD WP | DKOTA, SD WP | *24000 | 45000
*18000—GNSS MEA
*DME/DME/IRU MEA
§ 95.4140 RNAV Route Q140 is Amended by Adding
EEGEE, WI WP | DAYYY, MI WP | *18000 | 45000
*18000—GNSS MEA
*DME/DME/IRU MEA
DAYYY, MI WP | U.S. CANADIAN BORDER | #*18000 | 45000
*18000—GNSS MEA
*DME/DME/IRU MEA
#FOR THAT AIRSPACE OVER U.S. TERRITORY
U.S. CANADIAN BORDER | AHPAH, NY F WP | *18000 | 45000
*18000—GNSS MEA
*DME/DME/IRU MEA
AHPAH, NY WP | HANKK, NY FIX | *18000 | 45000
*18000—GNSS MEA
*DME/DME/IRU MEA
HANKK, NY FIX | BEEPS, NY FIX | *18000 | 45000
*18000—GNSS MEA
*DME/DME/IRU MEA
BEEPS, NY FIX | EXTOL, NY FIX | *18000 | 45000
*18000—GNSS MEA
*DME/DME/IRU MEA
EXTOL, NY FIX | MEMMS, NY FIX | *18000 | 45000
*18000—GNSS MEA
*DME/DME/IRU MEA
MEMMS, NY FIX | KODEY, NY FIX | *18000 | 45000
*18000—GNSS MEA
*DME/DME/IRU MEA
KODEY, NY FIX | ARKKK, NY WP | *18000 | 45000
*18000—GNSS MEA
*DME/DME/IRU MEA
ARKKK, NY WP | RODYY, NY WP | *18000 | 45000
*18000—GNSS MEA
*DME/DME/IRU MEA
RODYY, NY WP | YODAA, NY FIX | *18000 | 45000
*18000—GNSS MEA
*DME/DME/IRU MEA
Is Amended to Read in Part
CESNA, WI WP | WISCN, WI WP | *19000 | 45000
*18000—GNSS MEA
*DME/DME/IRU MEA
GRB, ODI
WISCN, WI WP | EEGEE, WI WP | *18000 | 45000
*18000—GNSS MEA
*DME/DME/IRU MEA
§ 95.4145 RNAV Route Q145 is Added to Read
KONGO, KY FIX | CHARLESTON, WV VORTAC | *18000 | 45000
*18000—GNSS MEA
*DME/DME/IRU MEA
CHARLESTON, WV VORTAC | CLNTN, OH WP | *18000 | 45000
*18000—GNSS MEA
*DME/DME/IRU MEA
CLNTN, OH WP | FOXEE, PA WP | *18000 | 45000
*18000—GNSS MEA
*DME/DME/IRU MEA
§ 95.4158 RNAV Route Q158 is Amended by Adding
NTELL, CA WP | PPARK, CA WP | *24000 | 45000
*18000—GNSS MEA
*DME/DME/IRU MEA
PPARK, CA WP | TRTIS, CA WP | *24000 | 45000
*18000—GNSS MEA
*DME/DME/IRU MEA
TRTIS, CA WP | BIKKR, CA WP | *24000 | 45000
*18000—GNSS MEA
*DME/DME/IRU MEA
BIKKR, CA WP | MYCAL, NV FIX | *24000 | 45000
*18000—GNSS MEA
*DME/DME/IRU MEA
MYCAL, NV FIX | JEDNA, NV WP | *24000 | 45000
*18000—GNSS MEA
*DME/DME/IRU MEA
§ 95.4160 RNAV Route Q160 is Amended by Adding
SHVVR, CA WP | FAANG, CA FIX | *36000 | 45000
*18000—GNSS MEA
*DME/DME/IRU MEA
FAANG, CA FIX | RIVVO, CA WP | *36000 | 45000
*18000—GNSS MEA
*DME/DME/IRU MEA
RIVVO, CA WP | BIKKR, CA WP | *25000 | 45000
*18000—GNSS MEA
*DME/DME/IRU MEA
§ 95.4162 RNAV Route Q162 is Amended by Adding
NTELL, CA WP | CABAB, CA WP | *26000 | 45000
*18000—GNSS MEA
*DME/DME/IRU MEA
CABAB, CA WP | VIKSN, CA WP | *28000 | 45000
*18000—GNSS MEA
*DME/DME/IRU MEA
VIKSN, CA WP | KENNO, NV WP | *28000 | 45000
*18000—GNSS MEA
*DME/DME/IRU MEA
KENNO, NV WP | ESSAA, NV WP | *28000 | 45000
*18000—GNSS MEA
*DME/DME/IRU MEA
ESSAA, NV WP | TUMBE, NV WP | *28000 | 45000
*18000—GNSS MEA
*DME/DME/IRU MEA
TUMBE, NV WP | MYCAL, NV FIX | *28000 | 45000
*18000—GNSS MEA
*DME/DME/IRU MEA
§ 95.4164 RNAV Route Q164 is Amended by Adding
NTELL, CA WP | CABAB, CA WP | *26000 | 45000
*18000—GNSS MEA
*DME/DME/IRU MEA
CABAB, CA WP | KICHI, NV WP | *26000 | 45000
*18000—GNSS MEA
*DME/DME/IRU MEA
KICHI, NV WP | KATTS, NV WP | *26000 | 45000
*18000—GNSS MEA
*DME/DME/IRU MEA
KATTS, NV WP | KITTN, NV WP | *27000 | 45000
*18000—GNSS MEA
*DME/DME/IRU MEA
KITTN, NV WP | ROCCY, UT WP | *27000 | 45000
*18000—GNSS MEA
*DME/DME/IRU MEA
§ 95.4166 RNAV Route Q166 is Added to Read
VIKSN, CA WP | UHILL, CA WP | *23000 | 45000
*18000—GNSS MEA
*DME/DME/IRU MEA
UHILL, CA WP | BIKKR, CA WP | *23000 | 45000
*18000—GNSS MEA
*DME/DME/IRU MEA
§ 95.4438 RNAV Route Q438 is Amended to Read in Part
RUBYY, MI WP | BERYS, MI WP | *18000 | 45000
*18000—GNSS MEA
*DME/DME/IRU MEA
§ 95.4440 RNAV Route Q440 is Amended by Adding
HUFFR, MN WP | IDIOM, WI WP | *18000 | 45000
*18000—GNSS MEA
*DME/DME/IRU MEA
IDIOM, WI WP | DEANI, MI FIX | *18000 | 45000
*18000—GNSS MEA
*DME/DME/IRU MEA
Is Amended to Read in Part
DEANI, MI FIX | SLLAP, MI WP | *18000 | 45000
*18000—GNSS MEA
*DME/DME/IRU MEA
SLLAP, MI WP | BERYS, MI WP | *18000 | 45000
*18000—GNSS MEA
*DME/DME/IRU MEA
§ 95.4501 RNAV Route Q501 is Amended to Delete
SOBME, SD WP | GOPHER, MN VORTAC | *24000 | 45000
*18000—GNSS MEA
*DME/DME/IRU MEA
GOPHER, MN VORTAC | VIXIS, CANADA FIX | *24000 | 45000
*18000—GNSS MEA
*DME/DME/IRU MEA
§ 95.4502 RNAV Route Q502 is Amended to Delete
SOBME, SD WP | GOPHER, MN VORTAC | *24000 | 45000
*18000—GNSS MEA
*DME/DME/IRU MEA
GOPHER, MN VORTAC | KENPA, CANADA FIX | *24000 | 45000
*18000—GNSS MEA
*DME/DME/IRU MEA
§ 95.4504 RNAV Route Q504 is Amended to Delete
HEMDI, SD WP DI, SD WP | CESNA, WI WP | *24000 | 45000
*18000—GNSS MEA
*DME/DME/IRU MEA
CESNA, WI WP | NOTAP, CANADA WP | *24000 | 45000
*18000—GNSS MEA
*DME/DME/IRU MEA
§ 95.4505 RNAV Route Q505 is Amended to Delete
HEMDI, SD WP | CESNA, WI WP | *24000 | 45000
*18000—GNSS MEA
*DME/DME/IRU MEA
CESNA, WI WP SNA, WI WP | RIMBE, MI WP | *24000 | 45000
*18000—GNSS MEA
*DME/DME/IRU MEA
RIMBE, MI WP | OMAGA, CANADA FIX | *24000 | 45000
*18000—GNSS MEA
*DME/DME/IRU MEA
§ 95.4806 RNAV Route Q806 is Added to Read
U.S. CANADIAN BORDER | MILLINOCKET, ME VOR/DME | *18000 | 45000
*18000—GNSS MEA
*DME/DME/IRU MEA
MILLINOCKET, ME VOR/DME | CANME, ME WP | *18000 | 45000
*18000—GNSS MEA
*DME/DME/IRU MEA
CANME, ME WP | U.S. CANADIAN BORDER | #*18000 | 45000
*18000—GNSS MEA
*DME/DME/IRU MEA
§ 95.4812 RNAV Route Q812 is Added to Read
TIMMR, ND FIX | WELOK, MN WP | *20000 | 45000
*18000—GNSS MEA
*DME/DME/IRU MEA
WELOK, MN WP | CEWDA, WI WP | *20000 | 45000
*18000—GNSS MEA
*DME/DME/IRU MEA
CEWDA, WI WP | ZOHAN, MI WP | *20000 | 45000
*18000—GNSS MEA
*DME/DME/IRU MEA
GRB, PMM, SAW, TVC ZOHAN, MI WP | U.S. CANADIAN BORDER | *20000 | 45000
*18000—GNSS MEA
*DME/DME/IRU MEA
PMM, SSM, TVC U.S. CANADIAN BORDER | KELTI, NY WP | *20000 | 45000
*18000—GNSS MEA
*DME/DME/IRU MEA
KELTI, NY WP | AHPAH, NY WP | *20000 | 45000
*18000—GNSS MEA
*DME/DME/IRU MEA
AHPAH, NY WP | GOATR, NY WP | *20000 | 45000
*18000—GNSS MEA
*DME/DME/IRU MEA
GOATR, NY WP | SYRACUSE, NY VORTAC | *18000 | 45000
*18000—GNSS MEA
*DME/DME/IRU MEA
SYRACUSE, NY VORTAC | FABEN, NY WP | *18000 | 45000
*18000—GNSS MEA
*DME/DME/IRU MEA
FABEN, NY WP | LOXXE, NY FIX | *18000 | 45000
*18000—GNSS MEA
*DME/DME/IRU MEA
LOXXE, NY FIX | ARKKK, NY WP | *18000 | 45000
*18000—GNSS MEA
*DME/DME/IRU MEA
ARKKK, NY WP | STOMP, NY WP | *18000 | 45000
*18000—GNSS MEA
*DME/DME/IRU MEA
SAX, SLT, SYR STOMP, NY WP | MSLIN, NY FIX | *18000 | 45000
*18000—GNSS MEA
*DME/DME/IRU MEA
MSLIN, NY FIX | GAYEL, NY FIX | *18000 | 45000
*18000—GNSS MEA
*DME/DME/IRU MEA
§ 95.4816 RNAV Route Q816 is Added to Read
HOCKE, MI WP | U.S. CANADIAN BORDER | *18000 | 45000
*18000—GNSS MEA
*DME/DME/IRU MEA
U.S. CANADIAN BORDER | U.S. CANADIAN BORDER | #*18000 | 45000
*18000—GNSS MEA
*DME/DME/IRU MEA
#FOR THAT AIRSPACE OVER U.S. TERRITORY
U.S. CANADIAN BORDER | KELTI, NY WP | *18000 | 45000
*18000—GNSS MEA
*DME/DME/IRU MEA
KELTI, NY WP | AHPAH, NY WP | *18000 | 45000
*18000—GNSS MEA
*DME/DME/IRU MEA
AHPAH, NY WP | GOATR, NY WP | *18000 | 45000
*18000—GNSS MEA
*DME/DME/IRU MEA
GOATR, NY WP | ARNII, NY FIX | *18000 | 45000
*18000—GNSS MEA
*DME/DME/IRU MEA
ARNII, NY FIX | HANAA, NY WP | *18000 | 45000
*18000—GNSS MEA
*DME/DME/IRU MEA
§ 95.4818 RNAV Route Q818 is Added to Read
FLINT, MI VORTAC | U.S. CANADIAN BORDER | *18000 | 45000
*18000—GNSS MEA
*DME/DME/IRU MEA
U.S. CANADIAN BORDER | WOZEE, NY WP | *18000 | 45000
*18000—GNSS MEA
*DME/DME/IRU MEA
WOZEE, NY WP | KELIE, NY FIX | *18000 | 45000
*18000—GNSS MEA
*DME/DME/IRU MEA
KELIE, NY FIX | VIEEW, NY FIX | *18000 | 45000
*18000—GNSS MEA
*DME/DME/IRU MEA
VIEEW, NY FIX | BINGHAMTON, NY VORTAC | *18000 | 45000
*18000—GNSS MEA
*DME/DME/IRU MEA
BINGHAMTON, NY VORTAC | BUFFY, PA FIX | *18000 | 45000
*18000—GNSS MEA
*DME/DME/IRU MEA
BUFFY, PA FIX | STOMP, NY WP | *18000 | 45000
*18000—GNSS MEA
*DME/DME/IRU MEA
STOMP, NY WP | MSLIN, NY FIX | *18000 | 45000
*18000—GNSS MEA
*DME/DME/IRU MEA
MSLIN, NY FIX | GAYEL, NY FIX | *18000 | 45000
*18000—GNSS MEA
*DME/DME/IRU MEA
§ 95.4822 RNAV Route Q822 is Added to Read
FLINT, MI VORTAC | U.S. CANADIAN BORDER | *18000 | 45000
*18000—GNSS MEA
*DME/DME/IRU MEA
U.S. CANADIAN BORDER | HOZIR, NY WP | *18000 | 45000
*18000—GNSS MEA
*DME/DME/IRU MEA
HOZIR, NY WP | GONZZ, NY WP | *18000 | 45000
*18000—GNSS MEA
*DME/DME/IRU MEA
GONZZ, NY WP | PUPPY, NY WP | *18000 | 45000
*18000—GNSS MEA
*DME/DME/IRU MEA
PUPPY, NY WP | PAYGE, NY FIX | *18000 | 45000
*18000—GNSS MEA
*DME/DME/IRU MEA
PAYGE, NY FIX | CAMBRIDGE, NY VOR/DME | *18000 | 45000
*18000—GNSS MEA
*DME/DME/IRU MEA
CAMBRIDGE, NY VOR/DME | KENNEBUNK, ME VOR/DME | *18000 | 45000
*18000—GNSS MEA
*DME/DME/IRU MEA
KENNEBUNK, ME VOR/DME | AJJAY, ME WP | *18000 | 45000
*18000—GNSS MEA
*DME/DME/IRU MEA
AJJAY, ME WP | ALLEX, OA WP | *18000 | 45000
*18000—GNSS MEA
*DME/DME/IRU MEA
§ 95.4824 RNAV Route Q824 is Added to Read
FLINT, MI VORTAC | HOCKE, MI WP | *18000 | 45000
*18000—GNSS MEA
*DME/DME/IRU MEA
HOCKE, MI WP | U.S. CANADIAN BORDER | *18000 | 45000
*18000—GNSS MEA
*DME/DME/IRU MEA
§ 95.4844 RNAV Route Q844 is Added to Read
SYRACUSE, NY VORTAC | U.S. CANADIAN BORDER | *18000 | 45000
*18000—GNSS MEA
*DME/DME/IRU MEA
§ 95.4848 RNAV Route Q848 is Added to Read
SLLAP, MI WP | HHIPP, MI WP | *18000 | 45000
*18000—GNSS MEA
*DME/DME/IRU MEA
HHIPP, MI WP | KARIT, CA WP | *18000 | 45000
*18000—GNSS MEA
*DME/DME/IRU MEA
KARIT, CA WP | U.S. CANADIAN BORDER | *18000 | 45000
*18000—GNSS MEA
*DME/DME/IRU MEA
§ 95.4905 RNAV Route Q905 is Added to Read
HOCKE, MI WP | U.S. CANADIAN BORDER | *18000 | 45000
*18000—GNSS MEA
*DME/DME/IRU MEA
§ 95.4907 RNAV Route Q907 is Added to Read
POSTS, MI WP | PADDE, MI WP | *18000 | 45000
*18000—GNSS MEA
*DME/DME/IRU MEA
PADDE, MI WP | SALEM, MI VORTAC | *18000 | 45000
*18000—GNSS MEA
*DME/DME/IRU MEA
SALEM, MI VORTAC | U.S. CANADIAN BORDER | *18000 | 45000
*18000—GNSS MEA
*DME/DME/IRU MEA
U.S. CANADIAN BORDER | U.S. CANADIAN BORDER | #*18000 | 45000
*18000—GNSS MEA
*DME/DME/IRU MEA
#FOR THAT AIRSPACE OVER U.S. TERRITORY. GNSS REQUIRED
§ 95.4913 RNAV Route Q913 is Added to Read
U.S. CANADIAN BORDER | CABCI, VT WP | *18000 | 45000
*18000—GNSS MEA
*DME/DME/IRU MEA
SLK, SYR CABCI, VT WP | TOPPS, ME FIX | *18000 | 45000
*18000—GNSS MEA
*DME/DME/IRU MEA
§ 95.4917 RNAV Route Q917 is Added to Read
SAULT STE MARIE, MI VOR/DME | U.S. CANADIAN BORDER | *18000 | 45000
*18000—GNSS MEA
*DME/DME/IRU MEA
U.S. CANADIAN BORDER | HOZIR, NY WP | *18000 | 45000
*18000—GNSS MEA
*DME/DME/IRU MEA
HOZIR, NY WP | WOZEE, NY WP | *18000 | 45000
*18000—GNSS MEA
*DME/DME/IRU MEA
§ 95.4923 RNAV Route Q923 is Added to Read
HOCKE, MI WP | KARIT, CA WP | *18000 | 45000
*18000—GNSS MEA
*DME/DME/IRU MEA
KARIT, CA WP | U.S. CANADIAN BORDER | *18000 | 45000
*18000—GNSS MEA
*DME/DME/IRU MEA
§ 95.4935 RNAV Route Q935 is Added to Read
MONEE, MI FIX | HOCKE, MI WP | *18000 | 45000
*18000—GNSS MEA
*DME/DME/IRU MEA
HOCKE, MI WP | U.S. CANADIAN BORDER | *18000 | 45000
*18000—GNSS MEA
*DME/DME/IRU MEA
U.S. CANADIAN BORDER | WOZEE, NY WP | *18000 | 45000
*18000—GNSS MEA
*DME/DME/IRU MEA
WOZEE, NY WP | HANKK, NY FIX | *18000 | 45000
*18000—GNSS MEA
*DME/DME/IRU MEA
HANKK, NY FIX | JOSSY, NY WP | *18000 | 45000
*18000—GNSS MEA
*DME/DME/IRU MEA
JOSSY, NY WP | AUDIL, NY FIX | *18000 | 45000
*18000—GNSS MEA
*DME/DME/IRU MEA
AUDIL, NY FIX | FABEN, NY WP | *18000 | 45000
*18000—GNSS MEA
*DME/DME/IRU MEA
FABEN, NY WP | PONCT, NY WP | *18000 | 45000
*18000—GNSS MEA
*DME/DME/IRU MEA
PONCT, NY WP | GARDNER, MA VOR/DME | *18000 | 45000
*18000—GNSS MEA
*DME/DME/IRU MEA
GARDNER, MA VOR/DME | BOSTON, MA VOR/DME | #*18000 | 45000
*18000—GNSS MEA
*DME/DME/IRU MEA
#FOR THAT AIRSPACE OVER U.S. TERRITORY.
§ 95.4937 RNAV Route Q937 is Added to Read
U.S. CANADIAN BORDER | WAYGO, NY WP | *18000 | 45000
*18000—GNSS MEA
*DME/DME/IRU MEA
WAYGO, NY WP | KRAZZ, NY WP | *18000 | 45000
*18000—GNSS MEA
*DME/DME/IRU MEA
§ 95.4947 RNAV Route Q947 is Added to Read
U.S. CANADIAN BORDER | REVEN, CA WP | *18000 | 45000
*18000—GNSS MEA
*DME/DME/IRU MEA
REVEN, CA WP | TOPPS, ME FIX | *18000 | 45000
*18000—GNSS MEA
*DME/DME/IRU MEA
TOPPS, ME FIX | CUZWA, ME WP | *18000 | 45000
*18000—GNSS MEA
*DME/DME/IRU MEA
CUZWA, ME WP | U.S. CANADIAN BORDER | *18000 | 45000
*18000—GNSS MEA
*DME/DME/IRU MEA
§ 95.4951 RNAV Route Q951 is Added to Read
POSTS, MI WP | PADDE, MI WP | *18000 | 45000
*18000—GNSS MEA
*DME/DME/IRU MEA
PADDE, MI WP | SALEM, MI VORTAC | *18000 | 45000
*18000—GNSS MEA
*DME/DME/IRU MEA
SALEM, MI VORTAC | U.S. CANADIAN BORDER | *18000 | 45000
*18000—GNSS MEA
*DME/DME/IRU MEA
U.S. CANADIAN BORDER | DAVDA, NY WP | *18000 | 45000
*18000—GNSS MEA
*DME/DME/IRU MEA
DAVDA, NY WP | SAVAL, NY WP | *18000 | 45000
*18000—GNSS MEA
*DME/DME/IRU MEA
SAVAL, NY WP | TALNO, CA WP | *18000 | 45000
*18000—GNSS MEA
*DME/DME/IRU MEA
TALNO, CA WP | U.S. CANADIAN BORDER | #*18000 | 45000
*18000—GNSS MEA
*DME/DME/IRU MEA
#FOR THAT AIRSPACE OVER U.S. TERRITORY.
U.S. CANADIAN BORDER | U.S. CANADIAN BORDER | #*18000 | 45000
*18000—GNSS MEA
*DME/DME/IRU MEA
#FOR THAT AIRSPACE OVER U.S. TERRITORY.

From | To | MEA
§ 95.6001 Victor Routes-U.S.
§ 95.6006 VOR Federal Airway V6 is Amended to Delete
WATERVILLE, OH VOR/DME | SANDUSKY, OH VOR/DME | 3000
SANDUSKY, OH VOR/DME | DRYER, OH VOR/DME | 3000
§ 95.6007 VOR Federal Airway V7 is Amended to Read in Part
MONTGOMERY, AL VORTAC | VULCAN, AL VORTAC | 3000
§ 95.6030 VOR Federal Airway V30 is Amended to Delete
WATERVILLE, OH VOR/DME | SANDUSKY, OH VOR/DME | 3000
SANDUSKY, OH VOR/DME | DRYER, OH VOR/DME | 3000
§ 95.6034 VOR Federal Airway V34 is Amended to Read in Part
HANCOCK, NY VOR/DME | WEETS, NY FIX | 6400
§ 95.6044 VOR Federal Airway V44 is Amended to Delete
SAMSVILLE, IL VOR/DME | NABB, IN VORTAC | 3000
NABB, IN VORTAC | FALMOUTH, KY VOR/DME | 2700
§ 95.6047 VOR Federal Airway V47 is Amended to Delete
POCKET CITY, IN VORTAC | HOLAN, IN FIX | 2600
HOLAN, IN FIX | SACKO, IN FIX | *3500
*2100—MOCA
*3000—GNSS MEA
SACKO, IN FIX | MAIZE, IN FIX | *6000
*2300—MOCA
*3000—GNSS MEA
MAIZE, IN FIX | NABB, IN VORTAC | *3500
*2400—MOCA
*3000—GNSS MEA
NABB, IN VORTAC | CINCINNATI, KY VORTAC | 2700
§ 95.6049 VOR Federal Airway V49 is Amended to Delete
MYSTIC, KY VOR | NABB, IN VORTAC | 3000
§ 95.60451 VOR Federal Airway V51 is Amended to Delete
LOUISVILLE, KY VORTAC | NABB, IN VORTAC | *10000
*2300—MOCA
NABB, IN VORTAC | SHELBYVILLE, IN VORTAC | *3000
*2300—MOCA
§ 95.6065 VOR Federal Airway V65 is Amended to Delete
DRYER, OH VOR/DME | SANDUSKY, OH VOR/DME | *3000
*2100—MOCA
SANDUSKY, OH VOR/DME | CARLETON, MI VORTAC | *3000
*2400—MOCA
§ 95.6077 VOR Federal Airway V77 is Amended to Read in Part
DES MOINES, IA VORTAC | *MIXIN, IA FIX | 3100
*5000—MRA
§ 95.6084 VOR Federal Airway V84 is Amended to Delete
FLINT, MI VORTAC | PECK, MI VORTAC | 2800
PECK, MI VORTAC | U.S. CANADIAN BORDER | *3500
*2900—MOCA
U.S. CANADIAN BORDER | BUFFALO, NY VOR/DME | #*6000
*2400—MOCA
*3000—GNSS MEA
#BUFFALO R-282 UNUSABLE BELOW 6000
§ 95.6091 VOR Federal Airway V91 is Amended to Delete
BURLINGTON, VT VOR/DME | PLATTSBURGH, NY VORTAC | 2600
PLATTSBURGH, NY VORTAC | U.S. CANADIAN BORDER | *6000
*3200—MOCA
*3500—GNSS MEA
§ 95.6093 VOR Federal Airway V93 is Amended to Read in Part
BRNNS, ME FIX | BANGOR, ME VORTAC | 3000
§ 95.6112 VOR Federal Airway V112 is Amended to Read in Part
KLICKITAT, OR VOR/DME | *OGPAY, OR FIX | 5400
*6000—MRA
*OGPAY, OR FIX | **LOAMS, OR FIX | 5400
*6000—MRA
**6000—MRA
*LOAMS, OR FIX | **ECHOD, OR FIX | 4100
*6000—MRA
**6000—MRA
*ECHOD, OR FIX | PENDLETON, OR VORTAC | 4100
*6000—MRA
§ 95.6115 VOR Federal Airway V115 is Amended to Read in Part
MONTGOMERY, AL VORTAC | VULCAN, AL VORTAC | 3000
§ 95.6126 VOR Federal Airway V126 is Amended to Delete
WATERVILLE, OH VOR/DME | SANDUSKY, OH VOR/DME | 3000
SANDUSKY, OH VOR/DME | DRYER, OH VOR/DME | 3000
§ 95.6133 VOR Federal Airway V133 is Amended to Delete
MANSFIELD, OH VORTAC | SANDUSKY, OH VOR/DME | 3000
SANDUSKY, OH VOR/DME | GEMNI, OH FIX | *3000
*2000—MOCA
GEMNI, OH FIX | U.S. CANADIAN BORDER | 3400
U.S. CANADIAN BORDER | DETROIT, MI VOR/DME | *3400
*2300—MOCA
DETROIT, MI VOR/DME | SALEM, MI VORTAC | 2900
§ 95.6187 VOR Federal Airway V187 is Amended to Read in Part
NEZ PERCE, ID VOR/DME | POTOR, WA FIX | *6000
*5400—MOCA
POTOR, WA FIX | *DATES, WA FIX | 7200
*4500—MCA DATES, WA FIX, E BND
PASCO, WA VOR/DME | NIALS, WA FIX | 2900
NIALS, WA FIX | FEBUS, WA FIX | 4400
§ 95.6203 VOR Federal Airway V203 is Amended to Delete
MASSENA, NY VORTAC | U.S. CANADIAN BORDER | *14000
*1500—MOCA
*2000—GNSS MEA
§ 95.6204 VOR Federal Airway V204 is Amended to Read in Part
YAKIMA, WA VORTAC | *PAIDS, WA FIX | 6000
*5300—MCA PAIDS, WA FIX, W BND
WATSY, WA FIX | SPOKANE, WA VORTAC | 5000
§ 95.6208 VOR Federal Airway V208 is Amended to Read in Part
JULIAN, CA VORTAC | THERMAL, CA VORTAC | 9000
§ 95.6216 VOR Federal Airway V216 is Amended to Delete
JANESVILLE, WI VOR/DME | WIPED, WI FIX | #
#UNUSABLE
WIPED, WI FIX | PETTY, WI FIX | #
#UNUSABLE
PETTY, WI FIX | SQUIB, MI FIX | #
#UNUSABLE
SQUIB, MI FIX | MUSKEGON, MI VORTAC | #
#UNUSABLE
MUSKEGON, MI VORTAC | SAGINAW, MI VOR/DME | 3000
SAGINAW, MI VOR/DME | PECK, MI VORTAC | 3000
PECK, MI VORTAC | U.S. CANADIAN BORDER | *5000
*2200—MOCA
§ 95.6243 VOR Federal Airway V243 is Amended to Delete
BOWLING GREEN, KY VORTAC | RENRO, KY FIX | *3000
*2400—MOCA
RENRO, KY FIX | *APALO, IN FIX | **4500
*4500—MRA
**2100—MOCA
APALO, IN FIX | HUNTINGBURG, IN VOR/DME | *4500
*2100—MOCA
HUNTINGBURG, IN VOR/DME | TERRE HAUTE, IN VORTAC | *2400
*2000—MOCA
§ 95.6274 VOR Federal Airway V274 is Amended to Read in Part
PULLMAN, MI VOR/DME | VICTORY, MI VOR/DME | 3000
VICTORY, MI VOR/DME | SAGINAW, MI VOR/DME | 2600
§ 95.6285 VOR Federal Airway V285 is Amended to Read in Part
KALAMAZOO, MI VOR/DME | VICTORY, MI VOR/DME | 3000
VICTORY, MI VOR/DME | CLOCK, MI FIX | 2800
§ 95.6298 VOR Federal Airway V298 is Amended to Read in Part
YAKIMA, WA VORTAC | *SUNED, WA FIX | **5000
*5500—MRA
**4300—MOCA
*SUNED, WA FIX | BENTY, WA FIX | **5000
*5500—MRA
**4300—MOCA
BENTY, WA FIX | PASCO, WA VOR/DME | *4000
*3500—MOCA
PASCO, WA VOR/DME | PENDLETON, OR VORTAC | 4000
§ 95.6314 VOR Federal Airway V314 is Amended to Delete
MILLINOCKET, ME VOR/DME | PRINCETON, ME VOR/DME | 2900
PRINCETON, ME VOR/DME | MOWND, FIX | *2500
*1800—MOCA
§ 95.6320 VOR Federal Airway V320 is Amended to Delete
SAGINAW, MI VOR/DME | PECK, MI VORTAC | 3000
PECK, MI VORTAC | U.S. CANADIAN BORDER | *6000
*2000—MOCA
§ 95.6337 VOR Federal Airway V337 is Amended to Delete
CUTTA, OH FIX | AKRON, OH VOR/DME | 3000
AKRON, OH VOR/DME | U.S. CANADIAN BORDER | 5000
U.S. CANADIAN BORDER | PECK, MI VORTAC | *7000
*2700—MOCA
PECK, MI VORTAC | SAGINAW, MI VOR/DME | 3000
SAGINAW, MI VOR/DME | MOUNT PLEASANT, MI VOR/DME | 2600
MOUNT PLEASANT, MI VOR/DME | WHITE CLOUD, MI VOR/DME | *3000
*2400—MOCA
§ 95.6357 VOR Federal Airway V357 is Amended to Read in Part
TOLGA, OR FIX | *WALLA WALLA, WA VOR/DME | 6700
*5300—MCA WALLA WALLA, WA VOR/DME, SE BND
§ 95.6423 VOR Federal Airway V423 is Amended to Delete
SYRACUSE, NY VORTAC | PAGER, NY FIX | *2400
*1800—MOCA
PAGER, NY FIX | WATERTOWN, NY VORTAC | *2600
*2000—MOCA
WATERTOWN, NY VORTAC | U.S. CANADIAN BORDER | *3000
*1800—MOCA
§ 95.6471 VOR Federal Airway V471 is Amended to Delete
BARHA, ME FIX | BANGOR, ME VORTAC | *3000
*2500—MOCA
§ 95.6510 VOR Federal Airway V510 is Amended to Read in Part
MUSKEGON, MI VORTAC | VICTORY, MI VOR/DME | 2700
VICTORY, MI VOR/DME | LANSING, MI VORTAC | 2700
§ 95.6514 VOR Federal Airway V514 is Amended to Read in Part
JULIAN, CA VORTAC | THERMAL, CA VORTAC | 9000
§ 95.6520 VOR Federal Airway V520 is Amended to Read in Part
PASCO, WA VOR/DME | *WALLA WALLA, WA VOR/DME | 3200
*5800—MCA WALLA WALLA, WA VOR/DME, NE BND

From | To | MEA | MAA
§ 95.7001 Jet Routes
§ 95.7016 Jet Route J16 is Amended to Delete
BADGER, WI VORTAC | PECK, MI VORTAC | 18000 | 45000
PECK, MI VORTAC | U.S. CANADIAN BORDER | 18000 | 45000
BUFFALO, NY VOR/DME | ALBANY, NY VORTAC | 18000 | 45000
ALBANY, NY VORTAC | BOSTON, MA VOR/DME | 18000 | 45000
§ 95.7029 Jet Route J29 is Amended to Delete
POCKET CITY, IN VORTAC | ROSEWOOD, OH VORTAC | 18000 | 45000
ROSEWOOD, OH VORTAC | DRYER, OH VOR/DME | 18000 | 45000
DRYER, OH VOR/DME | JAMESTOWN, NY VOR/DME | 18000 | 45000
JAMESTOWN, NY VOR/DME | SYRACUSE, NY VORTAC | 18000 | 45000
SYRACUSE, NY VORTAC | PLATTSBURGH, NY VORTAC | 18000 | 45000
PLATTSBURGH, NY VORTAC | BANGOR, ME VORTAC | 18000 | 45000
BANGOR, ME VORTAC | U.S. CANADIAN BORDER | 18000 | 45000
§ 95.7034 Jet Route J34 is Amended to Read in Part
BADGER, WI VORTAC | VICTORY, MI VOR/DME | 18000 | 45000
VICTORY, MI VOR/DME | CARLETON, MI VORTAC | 18000 | 45000
§ 95.7038 Jet Route J38 is Amended to Delete
DULUTH, MN VORTAC | GREEN BAY, WI VORTAC | 18000 | 45000
GREEN BAY, WI VORTAC | PECK, MI VORTAC | 18000 | 45000
§ 95.7043 Jet Route J43 is Amended to Delete
CARLETON, MI VORTAC | SAULT STE MARIE, MI VOR/DME | 18000 | 45000
§ 95.7053 Jet Route J53 is Amended to Delete
PULASKI, VA VORTAC | RICCS, WV FIX | 21000 | 45000
RICCS, WV FIX | ELLWOOD CITY, PA VORTAC | 18000 | 45000
§ 95.7061 Jet Route J61 is Amended to Delete
PHILIPSBURG, PA VORTAC | BUFFALO, NY VOR/DME | 18000 | 45000
§ 95.763 Jet Route J63 is Amended to Delete
KENNEDY, NY VOR/DME | HUGUENOT, NY VOR/DME | 18000 | 45000
HUGUENOT, NY VOR/DME | SYRACUSE, NY VORTAC | 18000 | 45000
SYRACUSE, NY VORTAC | U.S. CANADIAN BORDER | 18000 | 45000
U.S. CANADIAN BORDER | AU SABLE, MI VOR/DME | 18000 | 45000
AU SABLE, MI VOR/DME | TRAVERSE CITY, MI VORTAC | 18000 | 45000
§ 95.7078 Jet Route J78 is Amended to Delete
CHARLESTON, WV VORTAC | PHILIPSBURG, PA VORTAC | 18000 | 45000
PHILIPSBURG, PA VORTAC | MILTON, PA VORTAC | 18000 | 45000
§ 95.7082 Jet Route J82 is Amended to Delete
GOSHEN, IN VORTAC | DRYER, OH VOR/DME | 18000 | 45000
DRYER, OH VOR/DME | JAMESTOWN, NY VOR/DME | 18000 | 45000
JAMESTOWN, NY VOR/DME | ALBANY, NY VORTAC | 18000 | 40000
§ 95.7091 Jet Route J91 is Amended to Delete
HENDERSON, WV VORTAC | BELLAIRE, OH VOR/DME | 18000 | 45000
§ 95.7094 Jet Route J94 is Amended to Delete
FLINT, MI VORTAC | PECK, MI VORTAC | 18000 | 45000
PECK, MI VORTAC | U.S. CANADIAN BORDER | 18000 | 45000
U.S. CANADIAN BORDER | BUFFALO, NY VOR/DME | 18000 | 45000
BUFFALO, NY VOR/DME | ALBANY, NY VORTAC | 18000 | 45000
ALBANY, NY VORTAC | BOSTON, MA VOR/DME | 18000 | 45000
§ 95.7095 Jet Route J95 is Amended to Delete
BINGHAMTON, NY VORTAC | BUFFALO, NY VOR/DME | 18000 | 45000
BUFFALO, NY VOR/DME | U.S. CANADIAN BORDER | 18000 | 45000
§ 95.7106 Jet Route J106 is Amended to Delete
GOPHER, MN VORTAC | GREEN BAY, WI VORTAC | 18000 | 45000
GREEN BAY, WI VORTAC | FLINT, MI VORTAC | 18000 | 45000
FLINT, MI VORTAC | U.S. CANADIAN BORDER | 18000 | 45000
U.S. CANADIAN BORDER | JAMESTOWN, NY VOR/DME | 18000 | 45000
§ 95.7109 Jet Route J109 is Amended to Delete
LINDEN, VA VORTAC | BUFFALO, NY VOR/DME | 18000 | 45000
§ 95.7145 Jet Route J145 is Amended to Delete
CHARLESTON, WV VORTAC | ELLWOOD CITY, PA VORTAC | 18000 | 45000
§ 95.7185 Jet Route J185 is Amended to Delete
FLINT, MI VORTAC | TRAVERSE CITY, MI VORTAC | 18000 | 45000
§ 95.7213 Jet Route J213 is Amended to Read in Part
BECKLEY, WV VORTAC | ARMEL, VA VOR/DME | *18000 | 45000
*18000—GNSS MEA
§ 95.7220 Jet Route J220 is Amended to Delete
STONYFORK, PA VOR/DME | WELLSVILLE, NY VORTAC | 18000 | 45000
WELLSVILLE, NY VORTAC | BUFFALO, NY VOR/DME | 18000 | 39000
§ 95.7488 Jet Route J488 is Amended to Delete
WATERTOWN, NY VORTAC | U.S. CANADIAN BORDER | 18000 | 45000
§ 95.7500 Jet Route J500 is Amended to Delete
U.S. CANADIAN BORDER | SAULT STE MARIE, MI VOR/DME | 18000 | 45000
SAULT STE MARIE, MI VOR/DME | U.S. CANADIAN BORDER | 18000 | 45000
U.S. CANADIAN BORDER | MILLINOCKET, ME VOR/DME | 18000 | 45000
MILLINOCKET, ME VOR/DME | U.S. CANADIAN BORDER | 18000 | 45000
§ 95.7509 Jet Route J509 is Amended to Delete
U.S. CANADIAN BORDER | HOULTON, ME VOR/DME | 18000 | 45000
HOULTON, ME VOR/DME | U.S. CANADIAN BORDER | 18000 | 45000
§ 95.7522 Jet Route J522 is Amended to Delete
BRAINERD, MN VORTAC | GREEN BAY, WI VORTAC | 18000 | 45000
GREEN BAY, WI VORTAC | TRAVERSE CITY, MI VOR/DME | 18000 | 45000
TRAVERSE CITY, MI VOR/DME | AU SABLE, MI VOR/DME | 18000 | 45000
AU SABLE, MI VOR/DME | U.S. CANADIAN BORDER | 18000 | 45000
U.S. CANADIAN BORDER | ROCHESTER, NY VOR/DME | 18000 | 35000
#GNSS REQUIRED ABOVE FL350.
ROCHESTER, NY VOR/DME | HANCOCK, NY VOR/DME | 18000 | 45000
HANCOCK, NY VOR/DME | KINGSTON, NY VOR/DME | 18000 | 45000
§ 95.7524 Jet Route J524 is Amended to Delete
BUGSY, NY FIX | U.S. CANADIAN BORDER | 18000 | 45000
§ 95.7531 Jet Route J531 is Amended to Delete
BUFFALO, NY VOR/DME | SAULT STE MARIE, MI VOR/DME | #18000 | 45000
#FOR THAT AIRSPACE OVER U.S. TERRITORY.
§ 95.7545 Jet Route J545 is Amended to Delete
DRYER, OH VOR/DME | U.S. CANADIAN BORDER | 18000 | 45000
§ 95.7546 Jet Route J546 is Amended to Delete
PECK, MI VORTAC | U.S. CANADIAN BORDER | 18000 | 45000
§ 95.7547 Jet Route J547 is Amended to Delete
FLINT, MI VORTAC | U.S. CANADIAN BORDER | 18000 | 45000
U.S. CANADIAN BORDER | BUFFALO, NY VOR/DME | 18000 | 45000
SYRACUSE, NY VORTAC | CAMBRIDGE, NY VOR/DME | 18000 | 45000
CAMBRIDGE, NY VOR/DME | KENNEBUNK, ME VOR/DME | 18000 | 45000
§ 95.7548 Jet Route J548 is Amended to Delete
TRAVERSE CITY, MI VOR/DME | SAULT STE MARIE, MI VOR/DME | 18000 | 45000
SAULT STE MARIE, MI VOR/DME | U.S. CANADIAN BORDER | 18000 | 45000
§ 95.7551 Jet Route J551 is Amended to Delete
PECK, MI VORTAC | U.S. CANADIAN BORDER | 18000 | 45000
§ 95.7553 Jet Route J553 is Amended to Delete
PECK, MI VORTAC | U.S. CANADIAN BORDER | 18000 | 45000
§ 95.7559 Jet Route J559 is Amended to Delete
SYRACUSE, NY VORTAC | WATERTOWN, NY VORTAC | 18000 | 45000
WATERTOWN, NY VORTAC | U.S. CANADIAN BORDER | 18000 | 45000
§ 95.7560 Jet Route J560 is Amended to Delete
PLATTSBURGH, NY VORTAC | U.S. CANADIAN BORDER | 18000 | 45000
§ 95.7564 Jet Route J564 is Amended to Delete
U.S. CANADIAN BORDER | PRESQUE ISLE, ME VOR/DME | 18000 | 45000
PRESQUE ISLE, ME VOR/DME | U.S. CANADIAN BORDER | 18000 | 45000
§ 95.7566 Jet Route J566 is Amended to Delete
MASSENA, NY VORTAC | U.S. CANADIAN BORDER | #18000 | 45000
§ 95.7567 Jet Route J567 is Amended to Delete
PLATTSBURGH, NY VORTAC | U.S. CANADIAN BORDER | #18000 | 45000
§ 95.7581 Jet Route J581 is Amended to Delete
PUTNAM, CT VOR/DME | KENNEBUNK, ME VOR/DME | 18000 | 45000
KENNEBUNK, ME VOR/DME | BANGOR, ME VORTAC | 18000 | 45000
BANGOR, ME VORTAC | U.S. CANADIAN BORDER | 18000 | 45000
§ 95.7586 Jet Route J586 is Amended to Delete
CARLETON, MI VORTAC | LONDON, CANADA VOR/DME | #18000 | 45000
#FOR THAT AIRSPACE OVER U.S. TERRITORY.
REEDO, CANADA FIX | MASSENA, NY VORTAC | 18000 | 45000
MASSENA, NY VORTAC | KELVI, CANADA FIX | #18000 | 45000
#FOR THAT AIRSPACE OVER U.S. TERRITORY.
§ 95.7587 Jet Route J587 is Amended to Delete
THUNDER BAY, CANADA VORTAC | WAWA, CANADA VOR/DME | #18000 | 45000
#FOR THAT AIRSPACE OVER U.S. TERRITORY.
§ 95.7588 Jet Route J588 is Amended to Delete
SAULT STE MARIE, MI VOR/DME | U.S. CANADIAN BORDER | 18000 | 45000
§ 95.7594 Jet Route J594 is Amended to Delete
MASSENA, NY VORTAC | U.S. CANADIAN BORDER | 18000 | 45000
§ 95.7595 Jet Route J595 is Amended to Delete
U.S. CANADIAN BORDER | WATERTOWN, NY VORTAC | 18000 | 45000
WATERTOWN, NY VORTAC | PLATTSBURGH, NY VORTAC | 18000 | 45000
PLATTSBURGH, NY VORTAC | BANGOR, ME VORTAC | 18000 | 45000
BANGOR, ME VORTAC | SAINT JOHN, CANADA NDB | 18000 | 45000
#FOR THAT AIRSPACE OVER U.S. TERRITORY

Airway segment: From | Airway segment: To | Changeover points: From | Changeover points: To
§ 95.8003 VOR Federal Airway Changeover Point
V47 is Amended to Delete Changeover Point
POCKET CITY, IN VORTAC | NABB, IN VORTAC | 53 | POCKET CITY
V51 is Amended to Delete Changeover Point
SHELBYVILLE, IN VORTAC | BOILER, IN VORTAC | 50 | SHELBYVILLE
V216 is Amended to Delete Changeover Point
SAGINAW, MI VOR/DME | MUSKEGON, MI VORTAC | 48 | SAGINAW
§ 95.8005 Jet Routes Changeover Points
J82 is Amended to Delete Changeover Point
GOSHEN, IN VORTAC | DRYER, OH VOR/DME | 90 | GOSHEN
JAMESTOWN, NY VOR/DME | ALBANY, NY VORTAC | 145 | JAMESTOWN
J522 is Amended to Delete Changeover Point
ROCHESTER, NY VOR/DME | HANCOCK, NY VOR/DME | 54 | ROCHESTER
HANCOCK, NY VOR/DME | KINGSTON, NY VOR/DME | 41 | HANCOCK

[FR Doc. 2014-25330 Filed 10-23-14; 8:45 am]

BILLING CODE 4910-13-P